OFFICE OF PERSONNEL MANAGEMENT

Excepted Service

AGENCY: U.S. Office of Personnel Management (OPM).

ACTION: Notice.

SUMMARY: This gives notice of OPM decisions granting authority to make appointments under Schedules A, B, and C in the excepted service as required by 5 CFR 213.103.

FOR FURTHER INFORMATION CONTACT: Roland Edwards, Senior Executive Resource Services, Executive Resources and Employee Development, Employee Services, 202-606-2246.

SUPPLEMENTARY INFORMATION: Appearing in the listing below are the individual authorities established under Schedules A, B, and C between August 1, 2011, and August 31, 2011. These notices are published monthly in the Federal Register at http://www.gpoaccess.gov/fr/. A consolidated listing of all authorities as of June 30 is also published each year. The following Schedules are not codified in the Code of Federal Regulations. These are agency-specific exceptions.

Schedule A

No Schedule A authorities to report during August 2011.

Schedule B

No Schedule B authorities to report during August 2011.

Schedule C

The following Schedule C appointments were approved during August 2011.

Agency name | Organization name | Position title | Authorization No. | Effective date
DEPARTMENT OF AGRICULTURE | Office of the Under Secretary for Marketing and Regulatory Programs | Confidential Assistant | DA110118 | 8/24/2011
| Office of the Assistant Secretary for Congressional Relations | Special Assistant | DA110119 | 8/24/2011
| Office of Communications | Deputy Director of Scheduling | DA110108 | 8/3/2011
| Office of the Under Secretary for Marketing and Regulatory Programs | Special Assistant | DA110107 | 8/9/2011
DEPARTMENT OF COMMERCE | Office of the Under Secretary | Deputy Chief of Staff for USPTO | DC110109 | 8/4/2011
| Office of the General Counsel | Special Advisor | DC110105 | 8/2/2011
| Office of the Under Secretary | Special Assistant | DC110112 | 8/5/2011
| Office of the Chief of Staff | Advance Specialist | DC110115 | 8/12/2011
| Office of the Chief of Staff | Deputy Director of Advance | DC110117 | 8/16/2011
| Office of Public Affairs | Deputy Director for Public Affairs | DC110118 | 8/29/2011
COMMISSION ON CIVIL RIGHTS | Commissioners | Special Assistant | CC110008 | 8/24/2011
DEPARTMENT OF DEFENSE | Office of the Secretary | Special Assistant for Protocol | DD110124 | 8/24/2011
| Office of the Under Secretary of Defense (Policy) | Staff Assistant | DD110117 | 8/22/2011
| Office of the Assistant Secretary of Defense (International Security Affairs) | Special Assistant for African Affairs | DD110119 | 8/15/2011
DEPARTMENT OF EDUCATION | Office of Elementary and Secondary Education | Confidential Assistant | DB110108 | 8/5/2011
| Office of the Under Secretary | Confidential Assistant | DB110110 | 8/3/2011
| Office of the Secretary | Director, White House Liaison | DB110105 | 8/2/2011
| Office of the Secretary | Special Advisor | DB110109 | 8/3/2011
DEPARTMENT OF ENERGY | Assistant Secretary for Congressional and Intergovernmental Affairs | Deputy Assistant Secretary for House Affairs | DE110125 | 8/2/2011
| Assistant Secretary for Congressional and Intergovernmental Affairs | Intergovernmental Affairs Advisor | DE110131 | 8/12/2011
| Office of Management | Deputy Scheduler | DE110134 | 8/26/2011
| National Nuclear Security Administration | Deputy Press Secretary | DE110135 | 8/22/2011
| Office of Public Affairs | Deputy Press Secretary | DE110138 | 8/31/2011
DEPARTMENT OF HEALTH AND HUMAN SERVICES | Office of the Assistant Secretary for Public Affairs | Director of Public Health Initiatives | DH110125 | 8/5/2011
DEPARTMENT OF HOMELAND SECURITY | Office of the Assistant Secretary for Public Affairs | Deputy Press Secretary | DM110234 | 8/5/2011
| Office of the Assistant Secretary for Public Affairs | Press Secretary | DM110237 | 8/5/2011
| U.S. Immigration and Customs Enforcement | Special Assistant | DM110235 | 8/5/2011
| Office of the Assistant Secretary for Policy | Policy Analyst | DM110238 | 8/15/2011
| Office of the Assistant Secretary for Policy | Business Liaison | DM110239 | 8/5/2011
DEPARTMENT OF HOUSING AND URBAN DEVELOPMENT | Office of Housing | Program Analyst | DU110033 | 8/26/2011
| Office of the Administration | Scheduling Assistant | DU110032 | 8/26/2011
DEPARTMENT OF THE INTERIOR | Office of the Deputy Secretary | Special Assistant | DI110079 | 8/22/2011
DEPARTMENT OF JUSTICE | Civil Rights Division | Senior Counsel | DJ110102 | 8/18/2011
| Office of Public Affairs | Press Secretary | DJ110112 | 8/18/2011
DEPARTMENT OF LABOR | Office of Disability Employment Policy | Special Assistant | DL110047 | 8/2/2011
| Office of Public Affairs | Special Assistant | DL110048 | 8/2/2011
| Office of the Secretary | Special Assistant | DL110044 | 8/2/2011
| Office of the Secretary | Chief Economist | DL110053 | 8/31/2011
NATIONAL ENDOWMENT FOR THE ARTS | National Endowment for the Arts | Senior Advisor | NA110005 | 8/30/2011
NATIONAL ENDOWMENT FOR THE HUMANITIES | National Endowment for the Humanities | Special Assistant | NH110004 | 8/5/2011
OFFICE OF MANAGEMENT AND BUDGET | National Security Programs | Confidential Assistant | BO110030 | 8/25/2011
| Office of the Director | Executive Assistant | BO110029 | 8/5/2011
| Office of the Director | Confidential Assistant | BO110032 | 8/26/2011
OFFICE OF PERSONNEL MANAGEMENT | Office of Congressional and Legislative Affairs | Congressional Relations Officer | PM110018 | 8/9/2011
| Office of Congressional and Legislative Affairs | Congressional Relations Officer | PM110017 | 8/9/2011
| Office of the Director | Special Assistant | PM110014 | 8/9/2011
PRESIDENTS COMMISSION ON WHITE HOUSE FELLOWSHIPS | Presidents Commission on White House Fellowships | Special Assistant | WH110001 | 8/15/2011
SECURITIES AND EXCHANGE COMMISSION | Office of the Chairman | Special Assistant | SE110008 | 8/1/2011
SMALL BUSINESS ADMINISTRATION | Office of Communications and Public Liaison | Assistant Administrator for the Office of Communications and Public Liaison | SB110046 | 8/18/2011
| Office of Capital Access | Special Advisor for Capital Access | SB110044 | 8/4/2011
| Office of the Administrator | Director of Scheduling and Operations | SB110043 | 8/4/2011
| Office of International Trade | Associate Administrator for International Trade | SB110045 | 8/4/2011
DEPARTMENT OF STATE | Bureau for Education and Cultural Affairs | Staff Assistant | DS110098 | 8/31/2011
DEPARTMENT OF TRANSPORTATION | Associate Administrator for Policy and Governmental Affairs | Associate Administrator for Policy and Governmental Affairs | DT110051 | 8/15/2011
DEPARTMENT OF THE TREASURY | Assistant Secretary (Public Affairs) | Spokesperson | DY110131 | 8/19/2011
| Assistant Secretary for Financial Markets | Senior Advisor | DY110129 | 8/14/2011
| Secretary of the Treasury | Advance Specialist | DY110132 | 8/31/2011
| Assistant Secretary (Legislative Affairs) | Special Assistant | DY110125 | 8/12/2011

Authority: 5 U.S.C. 3301 and 3302; E.O. 10577, 3 CFR 1954-1958 Comp., p. 218.

U.S. Office of Personnel Management.
John Berry,
Director.

[FR Doc. 2011-27746 Filed 10-26-11; 8:45 am]

BILLING CODE 6325-39-P